DEPARTMENT OF LABOR

Employment and Training Administration

[TA-W-54,083]

Facemate Corporation, Greenwood, SC; Notice of Termination of Investigation

Pursuant to section 221 of the Trade Act of 1974, an investigation was initiated on January 26, 2004, in response to a petition filed on behalf of workers at Facemate Corporation, Greenwood, South Carolina.

The Department has been unable to locate company officials of the subject firm or to obtain the information necessary to reach a determination on worker group eligibility. Consequently, further investigation in this case would serve no purpose, and the investigation has been terminated.

Signed at Washington, DC, this 9th day of March, 2004.
Richard Church,
Certifying Officer, Division of Trade Adjustment Assistance.

[FR Doc. 04-7178 Filed 3-30-04; 8:45 am]

BILLING CODE 4510-30-P